DEPARTMENT OF COMMERCE

International Trade Administration

(A-489-807)

Certain Steel Concrete Reinforcing Bars From Turkey; Preliminary Results of Antidumping Duty Administrative Review

AGENCY: Import Administration, International Trade Administration, Department of Commerce

SUMMARY: In response to a request by the petitioner and two producers/exporters of the subject merchandise, the Department of Commerce is conducting an administrative review of the antidumping duty order on certain steel concrete reinforcing bars from Turkey. This review covers four manufacturers/exporters of the subject merchandise to the United States. This is the third period of review, covering April 1, 1999, through March 31, 2000.

We have preliminarily determined that sales have been made below the normal value by the companies subject to this review. If these preliminary results are adopted in the final results of this review, we will instruct the Customs Service to assess antidumping duties on all appropriate entries.

We invite interested parties to comment on these preliminary results. Parties who wish to submit comments in this proceeding are requested to submit with each argument: (1) a statement of the issue; and (2) a brief summary of the argument.

EFFECTIVE DATE: May 4, 2001.

FOR FURTHER INFORMATION CONTACT: Irina Itkin, Import Administration, International Trade Administration, U.S. Department of Commerce, 14th Street and Constitution Avenue, NW, Washington, DC 20230; telephone:(202) 482-0656.

Applicable Statue and Regulations

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (2000).

Background

On April 12, 2000, the Department of Commerce (the Department) published in the Federal Register a notice of “Opportunity to Request an Administrative Review” of the antidumping duty order on certain steel concrete reinforcing bars (rebar) from Turkey (65 FR 19736).

In accordance with 19 CFR 351.213(b)(2), in April 2000, the Department received requests from Diler Demir Celik Endustrisi ve Ticaret A.S., Yazici Demir Celik Sanayi ve Ticaret A.S. and Diler Dis Ticaret A.S. (collectively “Diler”) and ICDAS Celik Enerji Tersane ve Ulasim Sanayi, A.S. (ICDAS) to conduct an administrative review of the antidumping duty order on rebar from Turkey. In accordance with 19 CFR 351.213(b)(1), on May 1, 2000, the Department also received a request for an administrative review from the petitioner, AmeriSteel, for the following three producers/exporters of rebar: Colakaglu Metalurji A.S. (Colakoglu), Ekinciler Holding, A.S. and Ekinciler Demir Celik A.S. (collectively “Ekinciler”), and ICDAS.

In May 2000, Diler requested that the Department modify its reporting requirement with respect to home market sales, in light of the fact that Diler only made U.S. sales in certain months of the period of review (POR). In June 2000, we granted this request and shortened Diler's reporting period to May 1 through October 31, 1999. For further discussion, see the memorandum to Louis Apple from Gerald Surowiec, entitled “1999-2000 Antidumping Duty Administrative Review of Concrete Steel Reinforcing Bar from Turkey—Request by Diler for a Shortened Reporting Period,” dated June 14, 2000 (Diler Reporting Period Memo).

In June and July 2000, the Department initiated an administrative review for Colakoglu, Diler, Ekinciler, and ICDAS (65 FR 35320 (June 2, 2000) and 65 FR 41942 (July 7, 2000)) and issued questionnaires to them.

Also in June and July 2000, Ekinciler and ICDAS requested that the Department similarly modify their reporting requirements with respect to their home market sales data.¹ In July 2000, we also granted these requests and shortened Ekinciler's and ICDAS's reporting periods to October 1, 1999, through March 31, 2000, and April 1 through September 30, 1999, respectively. For further discussion, see the memorandum to Louis Apple from Gerald Surowiec, entitled “1999-2000 Antidumping Duty Administrative Review of Concrete Steel Reinforcing Bar from Turkey—Request by Ekinciler for a Shortened Reporting Period,” dated July 7, 2000 (Ekinciler Reporting Period Memo), as well as the memorandum to Louis Apple from Gerald Surowiec, entitled “Request by ICDAS for a Shortened Reporting Period in the 1999-2000 Antidumping Duty Administrative Review on Steel Concrete Reinforcing Bars from Turkey,” dated July 21, 2000 (ICDAS Reporting Period Memo).

¹ Ekinciler's request was also regarding its cost data.

In July and August 2000, we received responses to sections A through C of the questionnaire (i.e., the sections regarding sales to the home market and the United States) from each of the respondents. Also in August 2000, we received responses to Section D of the questionnaire (i.e., the section regarding cost of production (COP) and constructed value (CV)) from Colakoglu and Ekinciler.

In August 2000, the petitioner alleged that both Diler and ICDAS were selling at prices below their COPs in the home market. Based on an analysis of these allegations, in August and September 2000, respectively, the Department initiated investigations to determine whether ICDAS and Diler made home market sales at prices below their COPs within the meaning of section 773(b) of the Act. Consequently, we requested that these companies submit responses to section D of the questionnaire. We received responses to these questionnaires in September and October 2000.

In September and October 2000, we issued supplemental questionnaires to the respondents. We received responses to these questionnaires in September, October, and December 2000.

On October 3, 2000, the Department postponed the preliminary results of this review until no later than April 30, 2001. See Steel Concrete Reinforcing Bars From Turkey; Notice of Extension of Time Limits for Antidumping Duty Administrative Review, 65 FR 60169 (Oct. 10, 2000).

We verified the sales and cost information submitted by all four respondents in November 2000, as well as in January and February 2001, in accordance with section 782(i) of the Act and 19 CFR 351.307(b)(1)(iv). In March 2001, we requested and received revised databases from Diler, Ekinciler, and ICDAS, incorporating our findings at verification.

Scope of the Review

The product covered by this review is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 1999, through March 31, 2000.

Level of Trade and Constructed Export Price (CEP) Offset

In accordance with section 773(a)(1)(B) of the Act, to the extent practicable, we determine normal value (NV) based on sales in the comparison market at the same level of trade as export price (EP) or CEP. The NV level of trade is that of the starting-price sales in the comparison market or, when NV is based on CV, that of the sales from which we derive selling, general and administrative expenses (SG&A) and profit. For EP, the U.S. level of trade is also the level of the starting-price sale, which is usually from the exporter to the unaffiliated U.S. customer. For CEP, it is the level of the constructed sale from the exporter to the importer.

To determine whether NV sales are at a different level of trade than EP or CEP sales, we examine stages in the marketing process and selling functions along the chain of distribution between the producer and the unaffiliated customer. If the comparison-market sales are at a different level of trade and the difference affects price comparability, as manifested in a pattern of consistent price differences between the sales on which NV is based and comparison-market sales at the level of trade of the export transaction, we make a level-of-trade adjustment under section 773(a)(7)(A) of the Act. Finally, for CEP sales, if the NV level is more remote from the factory than the CEP level and there is no basis for determining whether the difference in the levels between NV and CEP affects price comparability, we adjust NV under section 773(a)(7)(B) of the Act (the CEP offset provision). See Notice of Final Determination of Sales at Less Than Fair Value: Certain Cut-to-Length Carbon Steel Plate from South Africa, 62 FR 61731, 61732 (Nov. 19, 1997).

Colakoglu claimed that it made home market sales at more than one level of trade, while the remaining respondents claimed that they made home market sales at only one level of trade. We analyzed the information on the record for each company and found that each respondent, including Colakoglu, performed essentially the same marketing functions in selling to all of its home market customers, regardless of customer category (e.g., end user, distributor, etc.). Therefore, we determined that these sales are at the same level of trade and that no level of trade adjustment is possible for any of the respondents because the record does not contain the type of information to make such an adjustment, given that there is only one level of trade in the home market. For a detailed explanation of this analysis, see the memorandum from the Team to Louis Apple, entitled “Concurrence Memorandum for the Preliminary Results of the 1999-2000 Antidumping Duty Administrative Review on Certain Steel Concrete Reinforcing Bars from Turkey,” dated April 30, 2001.

Comparisons to Normal Value

To determine whether sales of rebar from Turkey were made in the United States at less than normal value, we compared the EP to the NV. Because Turkey's economy experienced significant inflation during the POR, as is Department practice, we limited our comparisons to home market sales made during the same month in which the U.S. sale occurred and did not apply our “90/60” contemporaneity rule (see, e.g., Certain Porcelain on Steel Cookware from Mexico: Final Results of Antidumping Duty Administrative Review, 62 FR 42496, 42503 (Aug. 7, 1997)). This methodology minimizes the extent to which calculated dumping margins are overstated or understated due solely to price inflation that occurred in the intervening time period between the U.S. and home market sales.

We first attempted to compare products sold in the United States to products sold in the home market in the ordinary course of trade that were identical with respect to the following characteristics: grade, size, ASTM specification, and form. Where there were no home market sales of merchandise that were identical in these respects to the merchandise sold in the United States, we compared U.S. products with the most similar merchandise sold in the home market based on the characteristics listed above, in that order of priority.

Regarding Colakoglu, we were unable to make product comparisons for certain models which were produced and sold during 1999 because this respondent failed to report cost information for them, including both difference-in-merchandise and CV data. Consequently, for purposes of the preliminary results, we based the margin for the sales of these products on facts available pursuant to section 776(a)(2)(B) of the Act. As facts available, we used the highest non-aberrant margin calculated for any U.S. transaction for Colakoglu, in accordance with our practice. See, e.g., Static Random Access Memory Semiconductors From Taiwan; Preliminary Results and Partial Recission of Antidumping Administrative Review, 65 FR 26577, 26579 (May 8, 2000) (unchanged by the final results); and Final Determination of Sales at Less Than Fair Value: Stainless Steel Sheet and Strip in Coils from Germany, 64 FR 30710, 30732 (June 8, 1999). In selecting a facts-available margin, we sought a margin that is sufficiently adverse so as to effectuate the statutory purposes of the adverse facts-available rule, which is to induce respondents to provide the Department with complete and accurate information in a timely manner. We also sought a margin that is indicative of the respondent's customary selling practices and is rationally related to the transactions to which the adverse facts available are being applied. To that end, we selected the highest margin on an individual sale which fell within the mainstream of Colakoglu's transactions (i.e., transactions that reflect sales of products that are representative of the broader range of models used to determine NV).

Export Price

For all U.S. sales we used EP, in accordance with section 772(a) of the Act, because the subject merchandise was sold directly to the first unaffiliated purchaser in the United States prior to importation and CEP methodology was not otherwise warranted based on the facts of record.

A. Colakoglu

We based EP on packed prices to the first unaffiliated purchaser in the United States. We made deductions for ocean freight expenses, marine insurance expenses, inspection fees, bill of lading issuance fees, loading charges, and demurrage expenses (offset by freight commission revenue, wharfage revenue, despatch revenue, demurrage commission revenue, and agency fee revenue), where appropriate, in accordance with section 772(c)(2)(A) of the Act.

B. Diler

We based EP on packed prices to the first unaffiliated purchaser in the United States. We made deductions for foreign inland freight expenses, brokerage and handling expenses, port and loading fees, and ocean freight expenses, where appropriate, in accordance with section 772(c)(2)(A) of the Act.

C. Ekinciler

We based EP on packed prices to the first unaffiliated purchaser in the United States. We made deductions for foreign inland freight expenses, surveying fees, forklift expenses, dunnage expenses, loading fees, brokerage and handling expenses, ocean freight expenses, and customs clearance fees, where appropriate, in accordance with section 772(c)(2)(A) of the Act.

D. ICDAS

We based EP on packed prices to the first unaffiliated purchaser in the United States. We made deductions for foreign inland freight expenses, surveying fees, brokerage and handling expenses, and ocean freight expenses, where appropriate, in accordance with section 772(c)(2)(A) of the Act.

Normal Value

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(C) of the Act. Based on this comparison, we determined that each respondent had a viable home market during the POR. Consequently, we based NV on home market sales.

All four respondents made sales of rebar to affiliated parties in the home market during the POR. Consequently, we tested these sales to ensure that they were made at “arm's-length” prices, in accordance with 19 CFR 351.403(c). To conduct this test, we compared the unit prices of sales to affiliated and unaffiliated customers net of all movement charges, direct selling expenses, and packing. Where prices to the affiliated party were on average 99.5 percent or more of the price to the unaffiliated parties, we determined that these sales were made at arm's length (see Preamble, Antidumping Duties; Countervailing Duties; Final Rule 62 FR 27295, 27355 (May 19, 1997)). In accordance with the Department's practice, we only included in our margin analysis those sales to the affiliated party that were made at arm's length.

Pursuant to section 773(b)(2)(A)(ii) of the Act, for Colakoglu and Ekinciler, there were reasonable grounds to believe or suspect that these respondents had made home market sales at prices below their COPs in this review because the Department had disregarded sales below the COP for these companies in the most recently completed segment of this proceeding in which these companies participated (i.e., the less-than-fair-value (LTFV) investigation and the first review, respectively). See Notice of Final Determination of Sales at Less Than Fair Value: Certain Steel Concrete Reinforcing Bars from Turkey, 62 FR 9737, 9740 (Mar. 4, 1997). See also Certain Steel Concrete Reinforcing Bars From Turkey; Final Results of Antidumping Duty Administrative Review and New Shipper Review, 64 FR 49150, 49152 (Sept. 10, 1999). Pursuant to section 773(b)(2)(A)(i) of the Act, for Diler and ICDAS, there were reasonable grounds to believe or suspect that these respondents had made home market sales at prices below their COPs in this review because of information contained in the cost allegations properly filed in this review by the petitioner (see the memorandum from The Team to Louis Apple, entitled, “Antidumping Duty Administrative Review on Steel Concrete Reinforcing Bars from Turkey: Analysis of the Petitioners' Allegation of Sales Below the Cost of Production for Diler Demir Celik Endustrisi ve Ticaret A.S., Yazici Demir Celik Sanayi ve Ticaret A.S., and Diler Dis Ticaret A.S.,” dated September 1, 2000, as well as the memorandum from the Team to Louis Apple, entitled “Antidumping Duty Administrative Review on Steel Concrete Reinforcing bars from Turkey: Analysis of the Petitioners' Allegation of Sales Below the Cost of Production for ICDAS Celik Enerji Tersane ve Ulasim Sanayi A.S.,” dated August 29, 2000). As a result, the Department initiated investigations to determine whether each respondent made home market sales during the POR at prices below their respective COPs.

We calculated the COP based on the sum of each respondent's cost of materials and fabrication for the foreign like product, plus amounts for SG&A and packing costs, in accordance with section 773(b)(3) of the Act. We relied on the latest databases submitted by each respondent, adjusted for our findings at verification. Regarding ICDAS, we adjusted the reported secondary materials costs, which were based on historical costs, to reflect the weighted-average current purchase price at the time of consumption. We also disallowed ICDAS's material offset for sales of short-length rebar.

As noted above, we determined that the Turkish economy experienced significant inflation during the POR. Therefore, in order to avoid the distortive effect of inflation on our comparison of costs and prices, we requested that each respondent submit the product-specific cost of manufacturing (COM) incurred during each month of the reporting period. We calculated a period-average COM for each product after indexing the reported monthly costs during the reporting period to an equivalent currency level using the Turkish Wholesale Price Index from the International Financial Statistics published by the International Monetary Fund. We then restated the period-average COMs in the currency values of each respective month. For further discussion of the reporting periods for Diler, Ekinciler, and ICDAS, see the “Background” section of this notice, above.

We compared the weighted-average COP figures to home market prices of the foreign like product, as required under section 773(b) of the Act, in order to determine whether these sales had been made at prices below the COP. On a product-specific basis, we compared the COP to home market prices, less any applicable movement charges and selling expenses.

In determining whether to disregard home market sales made at prices below the COP, we examined whether such sales were made: (1) In substantial quantities within an extended period of time; and (2) for Colakoglu only, at prices which permitted the recovery of all costs within a reasonable period of time in the normal course of trade. See sections 773(b)(2)(B), (C), and (D) of the Act. Regarding Diler, Ekinciler, and ICDAS, we did not conduct a recovery of cost test because these companies did not report all costs over the POR.²

² We note that each of these companies waived its right to a cost recovery test as a condition of obtaining a modified home market sales and cost reporting period. For further discussion, see the Diler Reporting Period Memo, Ekinciler Reporting Period Memo, and the ICDAS Reporting Period Memo.

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we found that sales of that model were made in “substantial quantities” within an extended period of time (as defined in section 773(b)(2)(B) of the Act), in accordance with section 773(b)(2)(C)(i) of the Act. In such cases, for Colakoglu, we also determined that such sales were not made at prices which would permit recovery of all costs within a reasonable period of time, in accordance with section 773(b)(2)(D) of the Act. Therefore, for purposes of this administrative review, we disregarded these below-cost sales and used the remaining sales as the basis for determining NV, in accordance with section 773(b)(1) of the Act. Where all sales of a specific product were at prices below the COP, we disregarded all sales of that product.

A. Colakoglu

For those comparison products for which there were sales at prices above the COP, we based NV on ex-factory or delivered prices to home market customers. For those home market sales which were negotiated in U.S. dollars, we used the U.S.-dollar price, rather than the Turkish lira (TL) price adjusted for kur farki (i.e., an adjustment to the TL invoice price to account for the difference between the estimated and actual TL value on the date of payment), because the only price agreed upon was a U.S.-dollar price, and this price remained unchanged; the buyer merely paid the TL-equivalent amount at the time of payment. Where appropriate, we made deductions from the starting price for foreign inland freight expenses, in accordance with section 773(a)(6)(B) of the Act.

Pursuant to section 773(a)(6)(C)(iii) of the Act and 19 CFR 351.410(c), we made circumstance-of-sale adjustments for credit expenses, bank charges, and Exporters' Association fees.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using POR-average costs as adjusted for inflation for each month of the POR, as described above.

B. Diler

For those comparison products for which there were sales at prices above the COP, we based NV on ex-factory or delivered prices to home market customers. For those home market sales which were negotiated in U.S. dollars, we used the U.S.-dollar price, rather than the TL price adjusted for kur farki, for the reasons noted above. Where appropriate, we made deductions from the starting price for foreign inland freight, in accordance with section 773(a)(6)(B) of the Act.

Pursuant to section 773(a)(6)(C)(iii) of the Act and 19 CFR 351.410(c), we made circumstance-of-sale adjustments for credit expenses, as well as Exporters' Association fees.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using period-average costs as adjusted for inflation for each month of the reporting period, as described above.

C. Ekinciler

For those comparison products for which there were sales at prices above the COP, we based NV on ex-factory, ex-warehouse or delivered prices to home market customers, adjusted for billing errors. We excluded from our analysis home market re-sales by Ekinciler of merchandise produced by unaffiliated companies. Where appropriate, we made deductions from the starting price for foreign inland freight and off-site warehousing expenses, in accordance with section 773(a)(6)(B) of the Act.

Pursuant to section 773(a)(6)(C)(iii) of the Act and 19 CFR 351.410(c), we made circumstance-of-sale adjustments for credit expenses, bank charges, and Exporters' Association fees. We made no adjustment for home market commissions because Ekinciler did not report any U.S. indirect selling expenses for use as an offset. For further discussion, see the memorandum from Elizabeth Eastwood to the File, entitled “Calculations Performed for the Ekinciler Group (Ekinciler) for the Preliminary Results in the 1999-2000 Antidumping Administrative Review on Certain Steel Concrete Reinforcing Bars from Turkey,” dated April 30, 2001.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using period-average costs as adjusted for inflation for each month of the reporting period, as described above.

D. ICDAS

We based NV on delivered prices to home market customers because we found that all home market sales were in the ordinary course of trade. We made deductions from the starting price for foreign inland freight expenses in accordance with section 773(a)(6)(B) of the Act.

Pursuant to section 773(a)(6)(C)(iii) of the Act and 19 CFR 351.410(c), we made circumstance-of-sale adjustments for credit expenses (offset by interest revenue, where appropriate), bank charges, and Exporters' Association fees.

We deducted home market packing costs and added U.S. packing costs, in accordance with section 773(a)(6) of the Act.

Currency Conversion

The Department's preferred source for daily exchange rates is the Federal Reserve Bank. However, the Federal Reserve Bank does not track or publish exchange rates for Turkish Lira. Therefore, we made currency conversions based on the daily exchange rates from the Dow Jones News/Retrieval Service. See, e.g., Certain Steel Concrete Reinforcing Bars From Turkey; Final Results of Antidumping Duty Administrative Review and New Shipper Review, 64 FR 49150, 49158 (Sept. 10, 1999).

Preliminary Results of the Review

We preliminarily determine that the following margins exist for the respondents during the period April 1, 1999, through March 31, 2000:

Manufacturer/Producer/Exporter | Margin percentage
Colakoglu Metalurji A.S. | 10.47
Ekinciler Holding A.S./Ekinciler Demir Celik A.S. | 15.05
Diler Demir Celik Endustrisi ve Ticaret A.S./Yazici Demir Celik Sanayi ve Ticaret A.S./Diler Dis Ticaret A.S. | 0.00
ICDAS Celik Enerji Tersane ve Ulasim Sanayi A.S. | 0.00

The Department will disclose to parties the calculations performed in connection with these preliminary results within five days of the date of publication of this notice. Interested parties may request a hearing within 30 days of publication. Any hearing, if requested, will be held two days after the date rebuttal briefs are filed. Pursuant to 19 CFR 351.309, interested parties may submit cases briefs not later than 30 days after the date of publication of this notice. Rebuttal briefs, limited to issues raised in the case briefs, may be filed not later than 37 days after the date of publication of this notice. The Department will issue the final results of the administrative review, including the results of its analysis of issues raised in any such written comments, within 120 days of publication of these preliminary results.

Upon completion of the administrative review, the Department shall determine, and the Customs Service shall assess, antidumping duties on all appropriate entries. Pursuant to 19 CFR 351.212(b)(1), for Diler, we have calculated importer-specific assessment rates based on the ratio of the total amount of antidumping duties calculated for the examined sales to the total entered value of those sales. Regarding Colakoglu, Ekinciler, and ICDAS, for assessment purposes, we do not have the information to calculate entered value because these companies are not the importers of record for the subject merchandise. Accordingly, we have calculated importer-specific duty assessment rates for the merchandise in question by aggregating the dumping margins calculated for all U.S. sales to each importer and dividing this amount by the total quantity of those sales. The assessment rate will be assessed uniformly on all entries of that particular importer made during the POR. Pursuant to 19 CFR 351.106(c)(2), we will instruct the Customs Service to liquidate without regard to antidumping duties any of Diler's entries for which the assessment rate is de minimis (i.e., less than 0.50 percent). The Department will issue appraisement instructions directly to the Customs Service.

Further, the following deposit requirements will be effective for all shipments of rebar from Turkey entered, or withdrawn from warehouse, for consumption on or after the publication date of the final results of this administrative review, as provided for by section 751(a)(2)(C) of the Act: (1) The cash deposit rates for the reviewed companies will be the rates established in the final results of this review; (2) for previously investigated companies not listed above, the cash deposit rate will continue to be the company-specific rate published for the most recent period; (3) if the exporter is not a firm covered in this review, or the LTFV investigation, but the manufacturer is, the cash deposit rate will be the rate established for the most recent period for the manufacturer of the merchandise; and (4) the cash deposit rate for all other manufacturers or exporters will continue to be 16.06 percent, the all others rate established in the LTFV investigation.

These deposit requirements, when imposed, shall remain in effect until publication of the final results of the next administrative review.

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act. Effective January 20, 2001, Bernard T. Carreau is fulfilling the duties of the Assistant Secretary for Import Administration.

Dated: April 30, 2001.
Bernard T. Carreau,
Deputy Assistant Secretary, Import Administration.

[FR Doc. 01-11309 Filed 5-3-01; 8:45 am]

BILLING CODE 3510-DS-P